DEPARTMENT OF COMMERCE

International Trade Administration

[C-122-848]

Final Results of Countervailing Duty Expedited Review: Hard Red Spring Wheat From Canada

AGENCY:

Import Administration, International Trade Administration, Department of Commerce.

SUMMARY:

On October 21, 2004, the Department of Commerce published the preliminary results of the expedited review of the countervailing duty order on hard red spring wheat from Canada. The company covered by this review was Richelain Farms. The period of review is August 1, 2001, through July 31, 2002. We gave interested parties an opportunity to comment on those results. None were submitted. Thus, the final results of the expedited review do not differ from the preliminary results, in which we found that countervailable subsidies are not being provided to Richelain Farms.

Based on these final results, we are excluding Richelain Farms from the countervailing duty order in this proceeding. We will instruct U.S. Customs and Border Protection to refund all collected cash deposits and waive future cash deposit requirements for Richelain Farms, as detailed in the “Final Results of Expedited Review” section of this notice.

EFFECTIVE DATE:

January 26, 2005.

FOR FURTHER INFORMATION CONTACT: Stephen Cho or Daniel Alexy, AD/CVD Operations, Office 1, Import Administration, International Trade Administration, U.S. Department of Commerce, 14th Street and Constitution Avenue, NW, Washington, DC 20230; telephone (202) 482-3798 and (202) 482-1540, respectively.

SUPPLEMENTARY INFORMATION:

Petitioner

The petitioner is the North Dakota Wheat Commission, one of the participating petitioners in the investigation.

Period of Review

The period of review for this expedited review is the same period as the investigation: August 1, 2001, to July 31, 2002, which coincides with the fiscal year of the Canadian Wheat Board (“CWB”). See 19 CFR 351.204(b)(2) and 19 CFR 351.214(k)(3)(i).

Background

The preliminary results of this expedited review were published in the Federal Register on October 21, 2004. See Preliminary Results of Countervailing Duty Expedited Review: Hard Red Spring Wheat from Canada, 69 FR 61799 (“Preliminary Results”). In the Preliminary Results, we invited parties to comment. The parties neither submitted comments nor requested a hearing.

Scope of Review

The products covered by this order are all varieties of hard red spring wheat (“HRSW”) from Canada. This includes, but is not limited to, varieties commonly referred to as Canada Western Red Spring, Canada Western Extra Strong, and Canada Prairie Spring Red. The merchandise subject to this order is currently classifiable under the following Harmonized Tariff Schedule of the United States (“HTSUS”) subheadings: 1001.90.10.00, 1001.90.20.05, 1001.90.20.11, 1001.90.20.12, 1001.90.20.13, 1001.90.20.14, 1001.90.20.16, 1001.90.20.19, 1001.90.20.21, 1001.90.20.22, 1001.90.20.23, 1001.90.20.24, 1001.90.20.26, 1001.90.20.29, 1001.90.20.35, and 1001.90.20.96. This order does not cover imports of wheat that enter under the subheadings 1001.90.10.00 and 1001.90.20.96 that are not classifiable as hard red spring wheat. Although the HTSUS subheadings are provided for convenience and customs purposes, the written description of the scope of this proceeding is dispositive.

Final Results of Expedited Review

The CWB represents Western Canadian wheat producers who want to sell their wheat in the global wheat market. The CWB enjoys certain powers and rights similar to those of government agencies; for example, under the Canadian Wheat Board Act, the CWB is a single-desk seller of all “Western Division” grain. According to the Canada Transportation Act, “Western Division” means the part of Canada lying west of the meridian passing through the eastern boundary of the City of Thunder Bay, including the whole of the Province of Manitoba.

In the September 5, 2003, Final Affirmative Countervailing Duty Determinations: Certain Durum Wheat and Hard Red Spring Wheat from Canada, 68 FR 52747, we determined that the CWB benefitted from two countervailable subsidy programs: “Provision of Government-Owned and Leased Railcars” and “Comprehensive Financial Risk Coverage: The Borrowing, Lending, and Initial Payment Guarantees.” In its questionnaire response, Richelain Farms (“Richelain”) (the respondent in this expedited review), which is located in Quebec, reported that it never benefitted from the subsidy programs found countervailable in the investigation. Furthermore, Richelain reported that it has never purchased or exported CWB wheat, and that it has no business relationship with the CWB.

At verification, the Department of Commerce (“the Department”) did not find any evidence that Richelain received subsidies from the programs found countervailable in the investigation. The Department also found no indication of any relationship between Richelain and the CWB, or that Richelain exported CWB-sourced wheat to the United States. See October 8, 2004, memorandum entitled, “Verification of Richelain Farms in the Countervailing Duty Expedited Review of Hard Red Spring Wheat from Canada,” which is on file in the Department's Central records Unit in Room B-099 of the main Department building. Accordingly, the Department determines that Richelain has not benefitted from any of the subsidies found countervailable in the investigation.

The calculated individual subsidy rate for Richelain, the only respondent subject to this expedited review, is zero. Accordingly, pursuant to 19 CFR 351.214(k)(3)(iv), we determine that Richelain should be excluded from the countervailing duty order. As a result, we will instruct U.S. Customs and Border Protection (“CBP”) to refund all cash deposits of estimated countervailing duties collected on all shipments of HRSW produced and exported by Richelain. In addition, we will instruct CBP to waive cash deposit requirements of estimated countervailing duties on all shipments of HRSW produced and exported by Richelain, entered, or withdrawn from warehouse, for consumption on or after the date of publication of these results.

The results of this expedited review are published pursuant to sections 751(a)(1) and 777(i) of the Tariff Act of 1930, as amended.

Dated: January 19, 2005.
Joseph A. Spetrini,
Acting Assistant Secretary for Import Administration.

[FR Doc. E5-303 Filed 1-25-05; 8:45 am]

BILLING CODE: 3510-DS-S